DEPARTMENT OF JUSTICE

Notice of Lodging of Consent Decree Under the Comprehensive Environmental Response, Compensation and Liability Act

Under 28 CFR 50.7, notice is hereby given that on March 9, 2007, a proposed consent decree with defendant National Wrecking Company (“National Wrecking”) was lodged in the civil action United States v. B & D Electric Co., Inc., et al., Civil Action No. 05-00063, in the United States District Court for the Eastern District of Missouri.

In this action the United States is seeking response costs pursuant to Section 107 of the Comprehensive Environmental Response, Compensation and Liability Act (“CERCLA”), 42 U.S.C. 9607, for costs incurred in response to releases of hazardous substances at the Missouri Electric Works Superfund Site (“the Site”), in Cape Girardieu, Missouri. The proposed consent decree will resolve the United States' claims against defendant National Wrecking under Section 107 of CERCLA, 42 U.S.C. 9607, at the Site. Under the terms of the proposed consent decree, defendant National Wrecking will make a cast payment of $30,000 to the United States. In return, the United States will grant National Wrecking a covenant not to sue under CERCLA with respect to the Site. The settlement is based on National Wrecking's demonstrated limited financial means.

The Department of Justice will receive for a period of thirty (30) days from the date of this publication comments relating to the proposed consent decree. Comments should be addressed to the Assistant Attorney General, Environment and Natural Resources Division, P.O. Box 7611, U.S. Department of Justice, Washington, DC 20044-7611, and should refer to the proposed consent decree with defendant National Wrecking Company in United States v. B &D Electric Co., Inc., et al., D.J. 90-11-2-614/1.

The proposed consent decree may be examined at the office of the United States Attorney, 111 S. 10th Street, 20th Floor, St. Louis, Missouri 63102. During the public comment period, the Consent Decree may be examined on the following Department of Justice Web site: http://www.usdoj.gov/enrd/Consent_Decrees.html and at the Consent Decree Library, P.O. Box 7611, U.S. Department of Justice, Washington, DC 20044-7611 or by faxing a request to Tonia Fleetwood, fax no. (202) 514-0097, phone confirmation number (202) 514-1547. In requesting a copy please refer to the referenced case and enclose a check in the amount of $4 (25 cents per page reproduction costs), payable to the U.S. Treasury.

Public comments may be submitted by e-mail to the following e-mail address: pubcomment-ees.enrd@usdoj.gov.

Robert Maher,
Assistant Chief, Environmental Enforcement Section, Environment and Natural Resources Division.

[FR Doc. 07-1389 Filed 3-21-07; 8:45 am]

BILLING CODE 4410-15-M